DEPARTMENT OF COMMERCE

Foreign-Trade Zones Board

[B-77-2017]

Foreign-Trade Zone (FTZ) 158—Jackson, Mississippi; Notification of Proposed Production Activity; Traxys Cometals Processing, Inc. (Manganese and Aluminum Alloying Agents); Burnsville, Mississippi

Traxys Cometals Processing, Inc. (Traxys Cometals), submitted a notification of proposed production activity to the FTZ Board for its facility in Burnsville, Mississippi. The notification conforming to the requirements of the regulations of the FTZ Board (15 CFR 400.22) was received on November 27, 2017.

The applicant indicates that it will be submitting a separate application for FTZ designation at the Traxys Cometals facility under FTZ 158. The facility will be used to produce high-grade manganese and aluminum alloying agents to be supplied to steel and aluminum production plants. Pursuant to 15 CFR 400.14(b), FTZ activity would be limited to the specific foreign-status materials and components and specific finished products described in the submitted notification (as described below) and subsequently authorized by the FTZ Board.

Production under FTZ procedures could exempt Traxys Cometals from customs duty payments on the foreign-status components used in export production. On its domestic sales, for the foreign-status materials/components noted below, Traxys Cometals would be able to choose the duty rates during customs entry procedures that apply to carbon-free manganese briquettes, low-carbon manganese briquettes, manganese powder, MnAl (manganese/aluminum) briquettes, and CrAl (chromium/aluminum) briquettes (duty rate ranges from 1.4% to 14%). Traxys Cometals would be able to avoid duty on foreign-status components which become scrap/waste. Customs duties also could possibly be deferred or reduced on foreign-status production equipment.

The components and materials sourced from abroad include electrolytic manganese flakes, chromium powder, and chromium waste (duty rate ranges from duty-free to 14%).

Public comment is invited from interested parties. Submissions shall be addressed to the Board's Executive Secretary at the address below. The closing period for their receipt is January 23, 2018.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Christopher Wedderburn at Chris.Wedderburn@trade.gov or (202) 482-1963.

Dated: December 11, 2017.
Andrew McGilvray,
Executive Secretary.

[FR Doc. 2017-26970 Filed 12-13-17; 8:45 am]

BILLING CODE 3510-DS-P